DEPARTMENT OF HEALTH AND HUMAN SERVICES

National Institutes of Health

Notice

The National Institute on Aging and several other Institutes of the National Institutes of Health will hold a conference entitled “Conference on Alzheimer's Disease: Setting the Research Agenda a Century after Auguste D” on October 26-27, 2006. The purpose of the conference is to discuss future directions for the NIH Alzheimer's disease research agenda. The focus of the conference will be on discussing the research issues that must be addressed in order to provide more efficacious diagnostics and therapeutics to patients and their families.

The conference will include a series of 30 minute presentations by experts in covering a broad spectrum of Alzheimer's disease research. The speakers will provide an overview of where research in a particular field is now and discuss what the critical questions and issues are that must be addressed to move the field forward.

Persons interested in attending the conference should register at: http://www.tech-res-intl.com/nia/alzheimers_conference/default.htm.

Registration is free but seating is limited. The Web site also provides information about hotel accommodations.

Dated: September 12, 2006.
Neil Buckholtz,
Chief, Dementias of Aging Branch, Neuroscience and Neuropsychology of Aging Program, National Institute on Aging, National Institutes of Health.

[FR Doc. 06-7732 Filed 9-15-06; 8:45 am]

BILLING CODE 4140-01-M